DEPARTMENT OF TRANSPORTATION

National Highway Traffic Safety Administration

Petition for Exemption From the Federal Motor Vehicle Motor Theft Prevention Standard; Toyota

AGENCY: National Highway Traffic Safety Administration, Department of Transportation (DOT).

ACTION: Grant of petition for exemption.

SUMMARY: This document grants in full the petition of Toyota Motor North America, Inc's., (Toyota) petition for an exemption of the Camry vehicle line in accordance with 49 CFR Part 543, Exemption from the Theft Prevention Standard. This petition is granted because the agency has determined that the antitheft device to be placed on the line as standard equipment is likely to be as effective in reducing and deterring motor vehicle theft as compliance with the parts-marking requirements of the Theft Prevention Standard (49 CFR Part 541).

DATES: The exemption granted by this notice is effective beginning with model year (MY) 2011.

FOR FURTHER INFORMATION CONTACT: Ms. Carlita Ballard, Office of International Policy, Fuel Economy and Consumer Standards, NHTSA, W43-439, 1200 New Jersey Avenue, SE., Washington, DC 20590. Ms. Ballard's phone number is (202) 366-0846. Her fax number is (202) 493-2990.

SUPPLEMENTARY INFORMATION: In a petition dated May 5, 2009, Toyota requested an exemption from the parts-marking requirements of the theft prevention standard (49 CFR Part 541) for the Camry vehicle line beginning with MY 2011. The petition has been filed pursuant to 49 CFR Part 543, Exemption from Vehicle Theft Prevention Standard, based on the installation of an antitheft device as standard equipment for the entire vehicle line.

Under § 543.5(a), a manufacturer may petition NHTSA to grant an exemption for one vehicle line per model year. In its petition, Toyota provided a detailed description and diagram of the identity, design, and location of the components of the antitheft device for the Camry vehicle line. Toyota stated that all Camry vehicles will be equipped with a passive engine immobilizer device as standard equipment beginning with the 2011 model year. Additionally, Toyota states that the device will feature two operational systems, a “smart key system” (keyless entry) and a “conventional key” system. Toyota stated that both systems will have the same basic antitheft functionality and immobilization features but the driver will use either the transponder to open the door and start the engine or a conventional key to open the door and start the engine. Toyota additionally stated that the “conventional key” system will be standard on lower trim models and the “smart key” system will be standard on higher trim models but the main feature of the antitheft system is the immobilizer device. The “smart key” system is a fob-sized transponder that allows for “keyless” entry and push-button start. Key components of the “smart key” system will include an engine immobilizer, certification electronic control unit (ECU), engine switch, id code box, steering lock ECU, security indicator, door control receiver, electrical key and electronic control module (ECM). The key components of the “conventional key” system include an engine immobilizer, transponder key ECU assembly, transponder key amplifier, security indicator, ignition key and ECM. The device's security indicators provide the status of the immobilizer to users and others inside/outside the vehicle. When the immobilizer is activated, the indicator flashes continuously. When the immobilizer is not activated, the indicator is turned off. Models with the “smart” key system will also be installed with an additional visual and audible alarm feature designed to deter inappropriate access to the vehicle.

Toyota stated that with the “smart key” system, the immobilizer is activated when the power button is pushed from the “ON” status to another ignition status and the signal is verified by the ECU or with the “conventional key” system, the key is turned from the “ON” position and/or removed from the vehicle's ignition. The device is deactivated when the doors are unlocked and the system recognizes the transponder from the “smart key” system, or the “conventional key” is inserted into the key cylinder and turned toward the “ON” position. In either system, the key code has to be recognized by the ECM in order for the vehicle to start. Toyota also stated that position switches in the vehicle are also installed to protect the hood and doors of the vehicle. The position switches in the hood will trigger the antitheft device when they sense inappropriate opening of the hood. The position switches in the doors will trigger the antitheft device when they sense opening of the doors are being attempted without the use of a key, wirless switch or “smart entry” system. Toyota's submission is considered a complete petition as required by 49 CFR 543.7 in that it meets the general requirements contained in 543.5 and the specific content requirements of 543.6.

In addressing the specific content requirements of 543.6, Toyota provided information on the reliability and durability of its proposed device. To ensure reliability and durability of the device, Toyota conducted tests based on its own specified standards. Toyota provided a detailed list of the tests conducted (i.e., high and low temperature, strength, impact, vibration, electro-magnetic interference, etc.). Toyota stated that it believes that its device is reliable and durable because it complied with its own specific design standards and it is installed in other vehicle lines for which the agency has granted a parts-marking exemption. Additionally, Toyota stated that there are approximately 20,000 combinations for the key cylinders and key plates for its outer gutter keys and approximately 10,000 for its inner gutter keys, making it very difficult to unlock the doors without valid keys.

Toyota also compared the device proposed for its vehicle line with other devices which NHTSA has determined to be as effective in reducing and deterring motor vehicle theft as would compliance with the parts-marking requirements. Toyota referenced NHTSA published theft rate data for several years before and after the Altima vehicle line was equipped with a standard immobilizer. Toyota stated that the average theft rate for the Altima dropped to 3.0 per 1,000 cars produced between MYs 2000-2006 (with a standard immobilizer) from 5.3 per 1,000 cars produced between MYs 1996-1999 (without a standard immobilizer). Toyota stated that this represents approximately a 43% decrease in the theft rate (with installation of a standard immobilizer) when compared to the average for the Altima when it was parts marked. Toyota believes that installing the immobilizer as standard equipment reduces the theft rate and expects the Camry will experience comparable effectiveness to that of the Altima and therefore would be more effective than parts-marking labels.

Based on the evidence submitted by Toyota, the agency believes that the antitheft device for the Camry vehicle line is likely to be as effective in reducing and deterring motor vehicle theft as compliance with the parts-marking requirements of the Theft Prevention Standard (49 CFR 541).

Pursuant to 49 U.S.C. 33106 and 49 CFR 543.7(b), the agency grants a petition for exemption from the parts-marking requirements of Part 541, either in whole or in part, if it determines that, based upon substantial evidence, the standard equipment antitheft device is likely to be as effective in reducing and deterring motor vehicle theft as compliance with the parts-marking requirements of Part 541. The agency finds that Toyota has provided adequate reasons for its belief that the antitheft device for the Toyota Camry vehicle line is likely to be as effective in reducing and deterring motor vehicle theft as compliance with the parts-marking requirements of the Theft Prevention Standard (49 CFR Part 541). This conclusion is based on the information Toyota provided about its device.

The agency concludes that the device will provide four or five of the types of performance listed in § 543.6(a)(3): Promoting activation; attract attention to the efforts of an unauthorized person to enter or move a vehicle by means other than a key; preventing defeat or circumvention of the device by unauthorized persons; preventing operation of the vehicle by unauthorized entrants; and ensuring the reliability and durability of the device.

For the foregoing reasons, the agency hereby grants in full Toyota's petition for exemption for the Toyota Camry vehicle line from the parts-marking requirements of 49 CFR Part 541. The agency notes that 49 CFR Part 541, Appendix A-1, identifies those lines that are exempted from the Theft Prevention Standard for a given model year. 49 CFR 543.7(f) contains publication requirements incident to the disposition of all Part 543 petitions. Advanced listing, including the release of future product nameplates, the beginning model year for which the petition is granted and a general description of the antitheft device is necessary in order to notify law enforcement agencies of new vehicle lines exempted from the parts marking requirements of the Theft Prevention Standard.

If Toyota decides not to use the exemption for this line, it should formally notify the agency. If such a decision is made, the line must be fully marked according to the requirements under 49 CFR 541.5 and 541.6 (marking of major component parts and replacement parts).

NHTSA notes that if Toyota wishes in the future to modify the device on which this exemption is based, the company may have to submit a petition to modify the exemption. Section 543.7(d) states that a Part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: August 11, 2009.
Julie Abraham,
Director, Office of International Policy, Fuel Economy and Consumer Programs.

[FR Doc. E9-19585 Filed 8-14-09; 8:45 am]

BILLING CODE 4910-59-P